DEPARTMENT OF AGRICULTURE

Forest Service

Lakeview-Reeder Fuels Reduction, Idaho Panhandle National Forests, Idaho, Bonner County

AGENCY: Forest Service, USDA.

ACTION: Notice of intent to prepare a supplemental environmental impact statement.

SUMMARY: The Priest Lake Ranger District of the Idaho Panhandle National Forests will prepare a Supplemental Environmental Impact Statement (EIS) for the Lakeview-Reeder Fuel Reduction Project. The Notice of Availability of the draft EIS for the Lakeview-Reeder Fuels Reduction Project was published in the Federal Register (74 FR 5652) on January 30, 2009 and the notice of the final EIS (74 FR 28045) was published on June 12, 2009. Following the release of the final EIS, two pre-decisional objections were lodged against the project under 36 CFR part 218. Under administrative review, the project was found to be in compliance with existing laws, regulations and policy. Two separate records of decision were issued. The Roads Record of Decision (ROD) was signed on December 3, 2009. This authorized selected roadwork activities analyzed in Alternative 2 that needed to be accomplished before fuels reduction activities could be implemented. The Hazardous Fuels Reduction ROD was signed on May 10, 2010 and authorized the activities analyzed in Alternative 2 that were deferred in the Roads ROD. A complaint for injunctive and declaratory relief against the Fuels Reduction ROD was filed in the United States District Court for the District of Idaho on October 6, 2010. On December 3, 2010, the Fuels Reduction ROD was withdrawn to address issues raised by the decision in Native Ecosystems Council v. Tidwell, 599 F.3d 926 (9th Cir. 2010). A supplemental EIS will be prepared to address management indicator species, recently designated critical habitat for bull trout, and newly designated Sensitive species. Treatment acres, harvest prescriptions and mitigation for grizzly bears are slightly changed from that presented in the proposed action of the final EIS due to ongoing collaborative efforts.

DATES: Scoping is not required for supplements to environmental impact statements (40 CFR 1502.9(c)(4)). There was extensive public involvement in the development of the proposed action, the 2009 draft EIS, and the 2010 final EIS. The Forest Service is not inviting comments at this time. The draft supplemental EIS is expected to be available in July 2011 and the final supplemental EIS is expected September 2011. The comment period for the draft SEIS will be 45 days from the date the EPA publishes the notice of availability in the Federal Register.

ADDRESSES: Priest Lake Ranger District, 32203 Hwy 57, Priest Lake, Idaho 83856.

FOR FURTHER INFORMATION CONTACT: Albert Helgenberg, IDT Leader, USDA Forest Service, Sandpoint Ranger District, 208-263-5111. Individuals who use telecommunication devices for the deaf (TDD) may call the Federal Information Relay Service (FIRS) at 1-800-877-8339 between 8 a.m. and 8 p.m., Eastern Time, Monday through Friday.

SUPPLEMENTARY INFORMATION: The Forest Supervisor selected Alternative 2 with modifications as documented in the May 2010 Lakeview-Reeder Fuels Reduction Project Record of Decision (ROD). The ROD authorized approximately 3,559 acres of vegetation treatment. To improve access to fuel reduction treatment areas, the ROD authorized approximately 1.9 miles of road reconstruction, 19.5 miles of road maintenance, 2.4 miles of system road construction and 0.7 miles of temporary road construction. The supplemental EIS will contain additional information about management indicator species, recently designated critical habitat for bull trout, and newly designated Sensitive species. Any modifications that come out of the ongoing collaborative effort will also be incorporated into the supplemental EIS.

The mailing list for this project will include those individuals, agencies and organizations on the mailing list for the 2009 Draft EIS. The comment period for the draft SEIS will be 45 days from the date the EPA publishes the notice of availability in the Federal Register. The Idaho Panhandle National Forests Supervisor will make a decision on this project after considering comments, environmental consequences, and applicable laws, regulations, and policies.

Purpose and Need for Action

The project is needed to reduce hazardous forest fuels to decrease the risk of a wildfire negatively impacting the communities in the project area, public and firefighter safety, public infrastructure, private and National Forest System lands and resource values, and to restore, enhance and protect forest ecosystem components to improve forest health, increase biological diversity and to reduce threats from stand replacing wildfires and insect and disease infestations.

Proposed Action

The proposed action as described in the FEIS includes approximately 2,319 acres of fuel reduction treatment that involve commercial timber harvest and approximately 1,179 acres of ecosystem burn prescriptions that do not involve harvest. Road work includes approximately 19.5 miles of road maintenance, 1.9 miles of road reconstruction, 2.4 miles of new road construction, and 0.7 miles of temporary road construction.

Responsible Official

The Forest Supervisor of the Idaho Panhandle National Forests is the Responsible Official.

Nature of Decision To Be Made

The decison for the Lakeview-Reeder Fuels Reduction Project will identify the land management activities to be implemented in the project area including acres, types, and locations of vegetative treatments including timber harvest and fuel treatments, as well as miles and locations of road maintenance, construction, reconstruction and storage activities. The supplemental EIS is intended to provide additional evaluation of management indicator species, recently designated critical habitat for bull trout, and newly designated Sensitive species and provide that information to the public.

Scoping Process

Scoping is not required for supplements to environmental impact statements (40 CFR 1502.9(c)(4)). There was extensive public involvement in the development of the proposed action, the 2009 Draft EIS, and the 2010 Final EIS. The Forest Service is not inviting comments at this time.

Comment Requested

The comment period on the draft environmental impact statement will be 45 days from the date the Environmental Protection Agency publishes the notice of availability in the Federal Register.

The Forest Service believes, at this early state, it is important to give reviewers notice of several court rulings related to public participation in the environmental review process. First, reviewers of draft environmental impact statements must structure their participation in the environmental review of the proposal so that it is meaningful and alerts an agency to the reviewer's positions and contentions. Vermont Yankee Nuclear Power Corp. v. NRDC, 435 U.S. 519, 553 (1978). Also, environmental objections that could be raised at the draft environmental impact statement stage but that are not raised until after completion the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 15, 2011.
Ranotta K. McNair,
Forest Supervisor.

[FR Doc. 2011-9655 Filed 4-20-11; 8:45 am]

BILLING CODE 3410-11-P